GENERAL SERVICES ADMINISTRATION

OMB Control No. 3090-0086

General Services Administration Acquisition Regulation; Information Collection; GSA Form 1364, Proposal to Lease Space (Not Required by Regulation)

AGENCY: Office of the Chief Acquisition Officer, GSA.

ACTION: Notice of request for comments regarding a renewal to an existing OMB clearance.

SUMMARY: Under the provisions of the Paperwork Reduction Act of 1995 (44 U.S.C. Chapter 35), the General Services Administration has submitted to the Office of Management and Budget (OMB) a request to review and approve a renewal of a currently approved information collection requirement regarding GSA Form 1364,proposal to lease space (not required by regulation). A request for public comments was published at 69 FR 69940, December 1, 2004. No comments were received.

Public comments are particularly invited on: Whether this collection of information is necessary and whether it will have practical utility; whether our estimate of the public burden of this collection of information is accurate, and based on valid assumptions and methodology; ways to enhance the quality, utility, and clarity of the information to be collected.

DATES: Submit comments on or before: March 24, 2005.

FOR FURTHER INFORMATION CONTACT: Mr. Gerald Zaffos, Procurement Analyst, Contract Policy Division, at telephone (202) 208-6091 or via e-mail to jerry.zaffos@gsa.gov.

ADDRESSES: Submit comments regarding this burden estimate or any other aspect of this collection of information, including suggestions for reducing this burden to Ms. Jeanette Thornton, GSA Desk Officer, OMB, Room 10236, NEOB, Washington, DC 20503, and a copy to the Regulatory Secretariat (VIR), General Services Administration, Room 4035, 1800 F Street, NW., Washington, DC 20405. Please cite OMB Control No. 3090-0086, GSA Form 1364, Proposal to Lease Space (Not Required By Regulation), in all correspondence.

SUPPLEMENTARY INFORMATION:

A. Purpose

The General Services Administration (GSA) has various mission responsibilities related to the acquisition and provision of real property management, and disposal of real and personal property. These mission responsibilities generate requirements that are realized through the solicitation and award of leasing contracts. Individual solicitations and resulting contracts may impose unique information collection/reporting requirements on contractors, not required by regulation, but necessary to evaluate particular program accomplishments and measure success in meeting program objectives.

B. Annual Reporting Burden

Respondents: 5016

Responses Per Respondent: 1

Hours Per Response: 5.0205

Total Burden Hours: 25,183

Obtaining Copies of Proposals: Requesters may obtain a copy of the information collection documents from the General Services Administration, Regulatory Secretariat (VIR), 1800 F Street, NW., Room 4035, Washington, DC 20405, telephone (202) 208-7312. Please cite OMB Control No. 3090-0086, GSA Form 1364, Proposal to Lease Space (Not Required By Regulation), in all correspondence.

Dated: February 15, 2005
Julia Wise,
Deputy Director, Contract Policy Division.

[FR Doc. 05-3302 Filed 2-18-05; 8:45 am]

BILLING CODE 6820-61-S